DEPARTMENT OF TRANSPORTATION

Federal Aviation Administration

14 CFR Part 39

[Docket No. 2001-SW-50-AD; Amendment 39-12838; AD 2002-15-08]

RIN 2120-AA64

Airworthiness Directives; Eurocopter France Model EC120B, EC 155B, SA330F, SA330G, SA330J, AS332C, AS332L, AS332L1, AS332L2, AS350B, AS350BA, AS350B1, AS350B2, AS350B3, AS350D, AS355E, AS355F, AS355F1, AS355F2, AS355N, AS365N2, AS 365 N3, SA-365N, and SA-365N1 Helicopters

AGENCY: Federal Aviation Administration, DOT.

ACTION: Final rule.

SUMMARY: This amendment adopts a new airworthiness directive (AD) for specified Eurocopter France (ECF) model helicopters. This AD requires determining the load release unit (cargo hook) serial number, measuring the clearance between the locking catch and the cargo hook, and removing unairworthy cargo hooks from service. This amendment is prompted by the discovery of a defect on certain cargo hooks that may prevent load release. The actions specified by this AD are intended to prevent failure of a cargo hook to release a load creating an additional hazard in an emergency situation and subsequent loss of control of a helicopter.

DATES: Effective September 6, 2002.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: A proposal to amend 14 CFR part 39 to include an AD for specified ECF model helicopters was published in the Federal Register on April 10, 2002 (67 FR 17306). That action proposed to require, before the next flight utilizing the cargo hook, measuring the clearance between the locking catch and the cargo hook, and removing any cargo hook from service if that clearance is equal to or greater than 14mm (0.55 inches).

Discussion

The Direction Generale De L'Aviation Civile (DGAC), the airworthiness authority for France, notified the FAA that an unsafe condition may exist on various ECF model helicopters. The DGAC advises of the discovery of an anomaly on the locking catch of certain cargo hooks that could jam the ring on the cargo hook and jeopardize the release of an underslung load.

ECF has issued Alert Telexes 01.00.47, 01.00.49, 01.00.53, 01.00.60, 01.00.66 04A001, and 04A004, dated July 10, 2001, which specify measuring the clearance between the locking catch and the cargo hook and the acceptable dimension of the ring. The telexes state that the clearance, as illustrated in their Figure 1, must be less than 14 millimeters (mm) (0.55 inches). The DGAC classified these telexes as mandatory and issued AD 2001-318(A), dated July 25, 2001, to ensure the continued airworthiness of these helicopters in France.

Interested persons have been afforded an opportunity to participate in the making of this amendment. No comments were received on the proposal or the FAA's determination of the cost to the public. The FAA has determined that air safety and the public interest require the adoption of the rule as proposed except for a minor change. In paragraph (a) of the AD, we moved the parenthetical phrase “(see Figure 1)” to the end of the paragraph, removed the parenthesis, and added a colon. These changes will neither increase the economic burden on any operator nor increase the scope of the AD .

The FAA estimates that this AD will affect 725 helicopters of U.S. registry and will take approximately ¼ work hour to determine the serial number of the part, 1 work hour to measure the gap between the locking catch and the cargo hook for an estimated 50 helicopters, and 1 work hour to remove and replace each of an estimated 10 cargo hooks. The average labor rate is estimated to be $60 per work hour. Required parts would cost approximately $5,000. Based on these figures, the total cost impact of the AD on U.S. operators is estimated to be $64,475 assuming 10 cargo hooks require replacement.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-15-08 Eurocopter France: Amendment 39-12838. Docket No. 2001-SW-50-AD.

Applicability: Model EC120B, EC155B, SA330F, SA330G, SA330J, AS332C, AS332L, AS332L1, AS332L2, AS350B, AS350BA, AS350B1, AS350B2, AS350B3, AS350D, AS355E, AS355F, AS355F1, AS355F2, AS355N, AS-365N2, AS 365 N3, SA-365N, and SA-365N1 helicopters, with a SIREN load release unit (cargo hook), part number (P/N) AS21-5-1 through -7, and a cargo hook serial number less than 415, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before the next flight utilizing the cargo hook, unless accomplished previously.

To prevent failure of a cargo hook, inability to release a load creating an additional hazard in an emergency situation, and subsequent loss of control of a helicopter, accomplish the following:

(a) With the cargo hook in the no-load position, measure the clearance “J” in accordance with Figure 1 of this AD. Remove any cargo hook if clearance “J” is equal to or greater than 14 millimeters (0.55 inches). See Figure 1:

BILLING CODE 4910-13-P

BILLING CODE 4910-13-C

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits will not be issued allowing use of the affected cargo hook.

(d) This amendment becomes effective on September 6, 2002.

Note 3: The subject of this AD is addressed in Direction Generale De L'Aviation Civile, (France) AD 2001-318(A), dated July 25, 2001.

Issued in Fort Worth, Texas, on July 24, 2002.
Eric Bries,
Acting Manager, Rotorcraft Directorate, , Aircraft Certification Service.

[FR Doc. 02-19488 Filed 8-1-02; 8:45 am]

BILLING CODE 4910-13-P